DEPARTMENT OF TRANSPORTATION

Federal Motor Carrier Safety Administration

[Docket No. FMCSA-2014-0298]

Qualification of Drivers; Exemption Applications; Vision

AGENCY: Federal Motor Carrier Safety Administration (FMCSA), DOT.

ACTION: Notice of applications for exemptions, request for comments.

SUMMARY: FMCSA announces receipt of applications from 34 individuals for exemption from the vision requirement in the Federal Motor Carrier Safety Regulations. They are unable to meet the vision requirement in one eye for various reasons. If granted, the exemptions would enable these individuals to operate commercial motor vehicles (CMVs) in interstate commerce without meeting the prescribed vision requirement in one eye.

DATES: Comments must be received on or before December 24, 2014. All comments will be investigated by FMCSA. The exemptions will be issued the day after the comment period closes.

ADDRESSES: You may submit comments bearing the Federal Docket Management System (FDMS) Docket No. FMCSA-2014-0298 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, R.N., Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 34 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Peter H. Bailey

Mr. Bailey, 56, has had a prosthetic in his left eye since childhood. The visual acuity in his right eye is 20/20, and in his left eye, no light perception. Following an examination in 2014, his optometrist stated, “It is my professional opinion that Peter Bailey has sufficient vision to perform the driving tasks required to operate a commercial vehicle.” Mr. Bailey reported that he has driven straight trucks for 5 years, accumulating 28,750 miles, and tractor-trailer combinations for 33 years, accumulating 1.73 million miles. He holds a Class CA CDL from Michigan. His driving record for the last 3 years shows no crashes and no convictions for moving violations in a CMV.

Dewey E. Ballard Jr.

Mr. Ballard, 54, has had amblyopia in his right eye since childhood. The visual acuity in his right eye is 20/200, and in his left eye, 20/20. Following an examination in 2014, his optometrist stated that, in his medical opinion, Mr. Ballard has sufficient vision to perform the driving tasks required to operate a commercial vehicle. Mr. Ballard reported that he has driven straight trucks for 15 years, accumulating 60,000 miles. He holds an operator's license from South Carolina. His driving record for the last 3 years shows no crashes and no convictions for moving violations in a CMV.

Steven M. Claney

Mr. Claney, 49, has complete loss of vision in his left eye due to a traumatic incident in childhood. The visual acuity in his right eye is 20/20, and in his left eye, no light perception. Following an examination in 2014, his optometrist stated, “I feel Steven M [sic] Claney has the visual abilities to continue operating a commercial motor vehicle in interstate commerce because the visual loss in his left eye occurred in 1978 and he has been safely operating a commercial vehicle for more than 3 years.” Mr. Claney reported that he has driven tractor-trailer combinations for 7 years, accumulating 105,000 miles. He holds a Class A CDL from Iowa. His driving record for the last 3 years shows no crashes and no convictions for moving violations in a CMV.

Thurman T. Clayton, Jr.

Mr. Clayton, 44, has had amblyopia in his right eye since childhood. The visual acuity in his right eye is 20/200, and in his left eye, 20/20. Following an examination in 2014, his optometrist stated, “In my professional opinion, I confidently believe that Thurman Clayton can safely operate a commercial motor vehicle despite his Amblyopia [sic].” Mr. Clayton reported that he has driven straight trucks for 19 years, accumulating 138,320 miles. He holds a chauffer's license from Louisiana. His driving record for the last 3 years shows no crashes and no convictions for moving violations in a CMV.

Tig G. Cornell

Mr. Cornell, 40, has had amblyopia in his right eye since childhood. The visual acuity in his right eye is 20/80, and in his left eye, 20/15. Following an examination in 2014, his ophthalmologist stated, “In my medical opinion, Mr. Cornell has more than sufficient vision to perform the driving tasks required to operate a commercial vehicle without any type of correction.” Mr. Cornell reported that he has driven straight trucks for 12 years, accumulating 120,000 miles. He holds a Class A CDL from Idaho. His driving record for the last 3 years shows no crashes and no convictions for moving violations in a CMV.

Kevin R. Cowger

Mr. Cowger, 47, has optic atrophy in his left eye due to a traumatic incident in 2010. The visual acuity in his right eye is 20/20, and in his left eye, 20/100. Following an examination in 2014, his optometrist stated, “In my medical opinion this patient has sufficient vision to perform driving tasks required to operate a commercial vehicle.” Mr. Cowger reported that he has driven straight trucks for 4 years, accumulating 152,000 miles, and tractor-trailer combinations for 7 years, accumulating 266,000 miles. He holds a Class AM CDL from Wyoming. His driving record for the last 3 years shows no crashes and no convictions for moving violations in a CMV.

Jon R. Davidson

Mr. Davidson, 53, has complete loss of vision in his right eye due to a traumatic incident in childhood. The visual acuity in his right eye is hand motion, and in his left eye, 20/20. Following an examination in 2014, his optometrist stated, “I do feel Mr. Davidson has sufficient vision to perform the driving tasks required to operate a commercial vehicle.” Mr. Davidson reported that he has driven straight trucks for 37 years, accumulating 555,000 miles, and tractor-trailer combinations for 37 years, accumulating 740,000 miles. He holds an operator's license from Colorado. His driving record for the last 3 years shows no crashes and no convictions for moving violations in a CMV.

David R. Demura

Mr. Demura, 45, has had amblyopia in his left eye since childhood. The visual acuity in his right eye is 20/20, and in his left eye, 20/60. Following an examination in 2014, his optometrist stated, “Amblyopia, OS—Condition is permanent and unchanged since pt [sic] was young child, therefore does not affect him in the course of his daily life or job requirements. I see no reason why Mr [sic] Demura cannot continue opperating [sic] commercial vehicles with his commercial license that he has had until now since nothing found today is recent in any way.” Mr. Demura reported that he has driven straight trucks for 20 years, accumulating one million miles. He holds a Class AM CDL from Texas. His driving record for the last 3 years shows no crashes and no convictions for moving violations in a CMV.

Edwin T. Donaldson

Mr. Donaldson, 43, has had complete loss of vision in his right eye since childhood. The visual acuity in his right eye is counting fingers, and in his left eye, 20/20. Following an examination in 2014, his optometrist stated, “It is my opinion that the visual loss in his right eye will have minimal, if any, impact on his ability to safely operate a commercial vehicle.” Mr. Donaldson reported that he has driven buses for 6 years, accumulating 3,000 miles. He holds a Class BM CDL from Pennsylvania. His driving record for the last 3 years shows no crashes and no convictions for moving violations in a CMV.

William W. R. Dunn

Mr. Dunn, 57, has complete loss of vision in his left eye due to a traumatic incident in 1980. The visual acuity in his right eye is 20/20, and in his left eye, no light perception. Following an examination in 2014, his optometrist stated, “My opinion is that Mr. Dunn has sufficient vision to operate a commercial vehicle.” Mr. Dunn reported that he has driven straight trucks for 10 years, accumulating 275,000 miles. He holds an operator's license from Pennsylvania. His driving record for the last 3 years shows no crashes and no convictions for moving violations in a CMV.

Larry E. Emanuel, Jr.

Mr. Emanuel, 44, has retinal damage in his left eye due to a traumatic incident in 2003. The visual acuity in his right eye is 20/20, and in his left eye, light perception. Following an examination in 2014, his optometrist stated, “Patient has good central and peripheral. Vision is good for driving C.V. [sic].” Mr. Emanuel reported that he has driven straight trucks for 3 years, accumulating 259,200 miles, tractor-trailer combinations for 2 years, accumulating 148,800 miles, and buses for 4 years, accumulating 216,000 miles. He holds a Class B CDL from Florida. His driving record for the last 3 years shows one crash, to which he did contribute and for which he was cited, and no convictions for moving violations in a CMV.

Barbara A. Evans

Ms. Evans, 52, has had amblyopia in her right eye since childhood. The visual acuity in her right eye is 20/300, and in her left eye, 20/15. Following an examination in 2014, her optometrist stated, “Barbara Evans has sufficient vision to perform the driving test [sic] required to operate a commercial vehicle.” Ms. Evans reported that she has driven buses for 23 years, accumulating 575,000 miles. She holds a Class B MC CDL from New Hampshire. Her driving record for the last 3 years shows no crashes and no convictions for moving violations in a CMV.

Russell J. Fisher

Mr. Fisher, 42, has had strabismic amblyopia with esotropia in his right eye since childhood. The visual acuity in his right eye is counting fingers, and in his left eye, 20/20. Following an examination in 2014, his optometrist stated, “In my professional opinion Mr. Russell Fisher has sufficient vision to operate a commercial vehicle.” Mr. Fisher reported that he has driven straight trucks for 10 years, accumulating 300,000 miles, and tractor-trailer combinations for 10 years, accumulating 5,000 miles. He holds a Class A CDL from Montana. His driving record for the last 3 years shows no crashes and no convictions for moving violations in a CMV.

Timothy J. Fisher

Mr. Fisher, 45, has had strabismic amblyopia in his right eye since childhood. The visual acuity in his right eye is 20/80, and in his left eye, 20/20. Following an examination in 2014, his optometrist stated, “In my professional medical opinion, Mr. Fisher has sufficient vision to perform the driving tasks required to operate a commercial vehicle.” Mr. Fisher reported that he has driven straight trucks for 23 years, accumulating 115,000 miles, and tractor-trailer combinations for 21 years, accumulating 1.31 million miles. He holds a Class A CDL from Florida. His driving record for the last 3 years shows no crashes and no convictions for moving violations in a CMV.

Bradley J. Gaspard

Mr. Gaspard, 62, has had amblyopia in his left eye since childhood. The visual acuity in his right eye is 20/25, and in his left eye, 20/200. Following an examination in 2014, his ophthalmologist stated, “I think he has sufficient vision to perform driving tasks required to operate a commercial vehicle.” Mr. Gaspard reported that he has driven straight trucks for 3 years, accumulating 18,750 miles. He holds a chauffer's license from Louisiana. His driving record for the last 3 years shows no crashes and no convictions for moving violations in a CMV.

Perry D. Hamilton

Mr. Hamilton, 63, has had a corneal scar and rubiosis iridis in his left eye since 2009. The visual acuity in his right eye is 20/20, and in his left eye, no light perception. Following an examination in 2014, his optometrist stated, “The right eye has sufficient vision to operate a commercial vehicle.” Mr. Hamilton reported that he has driven straight trucks for 40 years, accumulating 600,000 miles, and tractor-trailer combinations for 4.5 years, accumulating 94,500 miles. He holds a Class A CDL from Tennessee. His driving record for the last 3 years shows no crashes and no convictions for moving violations in a CMV.

Jerome A. Henderson

Mr. Henderson, 48, has a macular scar in his left eye due to a traumatic incident in 1985. The visual acuity in his right eye is 20/20, and in his left eye, 20/400. Following an examination in 2014, his optometrist stated, “Vision sufficient for CMV driving tasks.” Mr. Henderson reported that he has driven straight trucks for 5 years, accumulating 104,000 miles, and tractor-trailer combinations for 15 years, accumulating 312,000 miles. He holds a Class A CDL from Virginia. His driving record for the last 3 years shows no crashes and no convictions for moving violations in a CMV.

William A. Hill III

Mr. Hill, 50, has had strabismic amblyopia in his left eye since birth. The visual acuity in his right eye is 20/20, and in his left eye, 20/60. Following an examination in 2014, his optometrist stated, “In my professional opinion, Mr. Hill's vision will not affect his ability to safely drive a commercial vehicle.” Mr. Hill reported that he has driven straight trucks for 20 years, accumulating 150,720 miles. He holds an operator's license from Ohio. His driving record for the last 3 years shows no crashes and no convictions for moving violations in a CMV.

James C. Jankowski

Mr. Jankowski, 71, has had amblyopia and a cataract in his left eye since childhood. The visual acuity in his right eye is 20/20, and in his left eye, 20/400. Following an examination in 2014, his ophthalmologist stated that, in his medical opinion, Mr. Jankowski has sufficient vision to operate a commercial motor vehicle. Mr. Jankowski reported that he has driven straight trucks for 5 years, accumulating 5,000 miles, and tractor-trailer combinations for 17 years, accumulating 1.62 million miles. He holds a Class ABCD CDL from Wisconsin. His driving record for the last 3 years shows no crashes and no convictions for moving violations in a CMV.

Glen L. Joens

Mr. Joens, 73, has had amblyopia in his left eye since childhood. The visual acuity in his right eye is 20/20, and in his left eye, hand motion. Following an examination in 2014, his optometrist stated, “He has sufficient vision to successfully operate a commercial vehicle.” Mr. Joens reported that he has driven straight trucks for 25 years, accumulating 250,000 miles, and tractor-trailer combinations for 25 years, accumulating 750,000 miles. He holds a Class A CDL from Iowa. His driving record for the last 3 years shows no crashes and no convictions for moving violations in a CMV.

Phillip V. King

Mr. King, 55, has had amblyopia in his right eye since childhood. The visual acuity in his right eye is 20/200, and in his left eye, 20/20. Following an examination in 2014, his ophthalmologist stated, “He has normal color vision and he has sufficient vision to perform his driving tasks required for his commercial vehicle.” Mr. King reported that he has driven straight trucks for 32 years, accumulating 384,000 miles. He holds an operator's license from Kentucky. His driving record for the last 3 years shows no crashes and no convictions for moving violations in a CMV.

Keith C. Lendt

Mr. Lendt, 39, has had a macular scar in his right eye since 1994. The visual acuity in his right eye is 20/400, and in his left eye, 20/20. Following an examination in 2014, his optometrist stated, “The visual deficiency present is macular scarring in the right eye . . . In my opinion, Mr. Lendt can safety [sic] perform driving tasks required to operate a commercial motor vehicle.” Mr. Lendt reported that he has driven straight trucks for 15 years, accumulating 375,000 miles. He holds a Class A CDL from Minnesota. His driving record for the last 3 years shows no crashes and no convictions for moving violations in a CMV.

Daniel E. Manchester

Mr. Manchester, 46, has had amblyopia in his right eye since childhood. The visual acuity in his right eye is 20/100, and in his left eye, 20/20. Following an examination in 2014, his optometrist stated that, in his opinion, Mr. Manchester has sufficient vision to operate a commercial motor vehicle. Mr. Manchester reported that he has driven straight trucks for 2 years, accumulating 20,000 miles, and tractor-trailer combinations for 19 years, accumulating 1.67 million miles. He holds a Class A CDL from Georgia. His driving record for the last 3 years shows no crashes and one conviction for a moving violation in a CMV; he exceeded the speed limit by 10 miles per hour.

Richard B. McMaster

Mr. McMaster, 67, has complete loss of vision in his right eye due to a traumatic incident in 1980. The visual acuity in his right eye is no light perception, and in his left eye, 20/20. Following an examination in 2014, his optometrist stated, “Based on today's findings, 09.19.2014, Mr. Richard McMaster displayed sufficient visual ability to operate a commercial vehicle.” Mr. McMaster reported that he has driven tractor-trailer combinations for 25 years, accumulating 2.5 million miles. He holds a Class A CDL from Arkansas. His driving record for the last 3 years shows no crashes and no convictions for moving violations in a CMV.

Joseph McTear Jr.

Mr. McTear, 55, has had a macular scar in his right eye due to a traumatic incident in childhood. The visual acuity in his right eye is 20/400, and in his left eye, 20/20. Following an examination in 2014, his optometrist stated, “Mr. McTear's visual deficiency is a long standing [sic] childhood injury, and I do not think that this trauma has an impact on his ability to drive a commercial vehicle.” Mr. McTear reported that he has driven tractor-trailer combinations for 12 years, accumulating 312,000 miles. He holds a Class A CDL from Texas. His driving record for the last 3 years shows no crashes and no convictions for moving violations in a CMV.

Martin Montañez

Mr. Montañez, 48, has had amblyopia in his right eye since childhood. The visual acuity in his right eye is 20/70, and in his left eye, 20/20. Following an examination in 2014, his optometrist stated, “Patient has sufficient vision to perform the driving tasks required to operate a commercial vehicle.” Mr. Montañez reported that he has driven straight trucks for 3 years, accumulating 15,000 miles. He holds an operator's license from Illinois. His driving record for the last 3 years shows no crashes and no convictions for moving violations in a CMV.

Lee A. Mosier

Mr. Mosier, 58, has had ischemic optic neuropathy in his left eye since 2010. The visual acuity in his right eye is 20/15, and in his left eye, 20/400. Following an examination in 2014, his optometrist stated, “He developed Ischemic optic neuropathy in the left eye in October of 2010 . . . I feel Lee is very safe in driving a commercial vehicle.” Mr. Mosier reported that he has driven straight trucks for 4 years, accumulating 96,000 miles, and tractor-trailer combinations for 30 years, accumulating 3.3 million miles. He holds a Class A CDL from Iowa. His driving record for the last 3 years shows 1 crash, to which he did not contribute and for which he was not cited, and no convictions for moving violations in a CMV.

Timothy L. O'Neill

Mr. O'Neill, 56, has had refractive amblyopia in his left eye since birth. The visual acuity in his right eye is 20/20, and in his left eye, hand motion. Following an examination in 2014, his optometrist stated, “In my medical opinion, patient has sufficient vision to perform the driving tasks required to operate a commercial vehicle.” Mr. O'Neill reported that he has driven straight trucks for 25 years, accumulating 112,500 miles, and tractor-trailer combinations for 20 years, accumulating 250,000 miles. He holds a Class A CDL from New York. His driving record for the last 3 years shows no crashes and no convictions for moving violations in a CMV.

John W. Randels

Mr. Randels, 61, has had a prosthetic left eye since 1986. The visual acuity in his right eye is 20/20, and in his left eye, no light perception. Following an examination in 2014, his optometrist stated, “I believe that Mr. Randels' [sic] visual condition is stable and and [sic] sufficient to perform his driving tasks for commercial vehicle [sic].”

Mr. Randels reported that he has driven straight trucks for 35 years, accumulating 700,000 miles. He holds an operator's license from Colorado. His driving record for the last 3 years shows no crashes and no convictions for moving violations in a CMV.

Carl W. Russell

Mr. Russell, 60, has had amblyopia in his right eye since childhood. The visual acuity in his right eye is 20/100, and in his left eye, 20/20. Following an examination in 2014, his optometrist stated, “I believe Mr. Russell has sufficient vision to operate a commercial vehicle but should utilize the appropriate outside rear view mirrors.” Mr. Russell reported that he has driven tractor-trailer combinations for 20 years, accumulating three million miles. He holds an operator's license from Oklahoma. His driving record for the last 3 years shows no crashes and one conviction for a moving violation in a CMV; he exceeded the speed limit.

Valnei L. Santos

Mr. Santos, 65, has a scar in his left eye due to a traumatic incident in childhood. The visual acuity in his right eye is 20/20, and in his left eye, light perception. Following an examination in 2014, his ophthalmologist stated, “My findings, he has sufficient vision to perform the driving tasks required to operate a commercial vehicle.” Mr. Santos reported that he has driven straight trucks for 33 years, accumulating 693,000 miles, and tractor-trailer combinations for 23 years, accumulating 92,000 miles. He holds a Class A CDL from Florida. His driving record for the last 3 years shows no crashes and no convictions for moving violations in a CMV.

Thomas L. Stanaway

Mr. Stanaway, 65, has had amblyopia in his left eye since childhood. The visual acuity in his right eye is 20/20, and in his left eye, 20/200. Following an examination in 2014, his ophthalmologist stated, “In my medical opinion if he has had this condition for his entire life and as he says, has safely and effectively operated commercial vehicles in the past: I feel he displays sufficient vision to perform the driving tasks associated with operating a commercial vehicle.” Mr. Stanaway reported that he has driven straight trucks for three months, accumulating 3,000 miles, and tractor-trailer combinations for 40 years, accumulating four million miles. He holds a Class CA CDL from Michigan. His driving record for the last 3 years shows no crashes and no convictions for moving violations in a CMV.

Daniel R. Thompson

Mr. Thompson, 67, has had vision loss in his left eye since birth. The visual acuity in his right eye is 20/20, and in his left eye, counting fingers. Following an examination in 2014, his ophthalmologist stated, “His left eye has finger counting vision . . . According to the patient's history, he has been driving a commercial vehicle without incident. I would assume that since nothing is changing, he can continue to do his present occupation.” Mr. Thompson reported that he has driven straight trucks for 22 years, accumulating 132,000 miles. He holds a Class B CDL from Pennsylvania. His driving record for the last 3 years shows no crashes and no convictions for moving violations in a CMV.

Luther W. Wieder, Jr.

Mr. Wieder, 55, has complete loss of vision in his right eye due to a traumatic incident in 2001. The visual acuity in his right eye is light perception, and in his left eye, 20/15. Following an examination in 2014, his ophthalmologist stated, “In my medical opinion, the patient has sufficient vision to perform the driving tasks required to safely operate a commercial vehicle.” Mr. Wieder reported that he has driven straight trucks for 32 years, accumulating 192,000 miles, and tractor-trailer combinations for 32 years, accumulating 96,000 miles. He holds a Class A CDL from Maine. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2014-0298 in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2014-0298 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: November 17, 2014.
Larry W. Minor,
Associate Administrator for Policy.

[FR Doc. 2014-27747 Filed 11-21-14; 8:45 am]

BILLING CODE 4910-EX-P